DEPARTMENT OF THE INTERIOR

National Park Service

[NPS-NERO-CACO-37284; PPNECACOS0, PPMPSPD1Z.YM0000]

Cape Cod National Seashore Advisory Commission Notice of Public Meeting

AGENCY: National Park Service, Interior.

ACTION: Meeting notice.

SUMMARY: In accordance with the Federal Advisory Committee Act, as amended, the National Park Service (NPS) is hereby giving notice that the meeting of the reestablished Cape Cod National Seashore Advisory Commission (Commission) will meet as indicated below.

DATES: The Commission will meet on Monday, April 8, 2024, at 1 p.m. and will end by 4 p.m. (eastern).

ADDRESSES: The meeting will be held at the Salt Pond Visitors Center, 50 Nauset Road, Eastham, Massachusetts 02642.

FOR FURTHER INFORMATION CONTACT: Jennifer Flynn, Superintendent and Designated Federal Officer, Cape Cod National Seashore, 99 Marconi Site Road, Wellfleet, Massachusetts 02667, telephone (508) 771-2144 or jennifer_flynn@nps.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Commission was established by section 8 of Public Law 87-126, as amended, and expired on September 26, 2018. The Commission was reestablished by Div. DD, title VI, subtitle B, section 613 of Public Law 117-328, the Consolidated Appropriations Act, 2023. The Commission's new termination date is September 26, 2029. The purpose of the Commission is to consult with the Secretary of the Interior, or her designee, with respect to matters relating to the development of Cape Cod National Seashore, and with respect to carrying out the provisions of the Act establishing the Seashore. The meeting is open to the public. Interested persons may make oral presentations to the Commission. Such requests should be made to the Superintendent at the beginning of the meeting. Depending on the number of persons wishing to speak, and the time available, the time for individual comments may be limited. Written comments can be sent to Jennifer Flynn [see FOR FURTHER INFORMATION CONTACT]. All comments received will be provided to the Commission.

The Commission meeting location may change based on inclement weather or exceptional circumstances. If a meeting location is changed, the Superintendent will issue a press release and use local newspapers to announce the change. Detailed minutes of the meeting will be available for public inspection within 90 days of the meeting.

Purpose of the Meeting: The Commission meeting will discuss the following:

1. Introduction of members and staff

2. Review Commission charter and charge identified by the Secretary of the Interior

3. Solicit recommended areas for focus for the Commission. What will the Commission advise park management on?

4. Determine next four meeting dates and subject of each meeting

Meeting Accessibility/Special Accommodations: The meeting is open to the public. Please make requests in advance for sign language interpreter services, assistive listening devices, or other reasonable accommodations. We ask that you contact the person listed in the FOR FURTHER INFORMATION CONTACT section of this notice at least seven (7) business days prior to the meeting to give the Department of the Interior sufficient time to process your request. All reasonable accommodation requests are managed on a case-by-case basis.

Public Disclosure of Information: Before including your address, phone number, email address, or other personal identifying information in your comments, you should be aware that your entire comment—including your personal identifying information—may be made publicly available at any time. While you can ask us in your comment to withhold your personal identifying information from public review, we cannot guarantee that we will be able to do so.

Authority: 5 U.S.C. ch 10.

Alma Ripps,
Chief, Office of Policy.

[FR Doc. 2024-04195 Filed 2-28-24; 8:45 am]

BILLING CODE 4312-52-P